Proclamation 9870 of April 30, 2019

National Physical Fitness and Sports Month, 2019

By the President of the United States of America

A Proclamation

National Physical Fitness and Sports Month highlights the important role of physical fitness and sports in uniting us as Americans and enabling us to live more active and healthy lives. The countless benefits of routine exercise and participation in sports extend beyond physical health and help improve overall mental health, teach valuable life skills, and build camaraderie and friendship.

Each day across our country, thousands of coaches, parents, and teachers work to break down barriers to youth participation in sports to help young people improve their lives and empower them to reach their full potential. Sports and physical activity help children and adolescents improve cardiorespiratory fitness, build strong bones and muscles, lower the likelihood of obesity, reduce symptoms of anxiety and depression, and reduce the risk of developing chronic health conditions. In addition, organized sports help our youth discover the importance of teamwork, social skills, hard work, determination, and the ability to overcome adversity. Students who participate in sports have up to 40 percent higher test scores and are 15 percent more likely to attend college.

Unfortunately, despite the numerous benefits, youth sports participation has been decreasing. In 2016, only 37 percent of youth played team sports on a regular basis, down from 45 percent 11 years ago. This decline is even more apparent among students from low-income families.

To address this issue, I have directed the President's Council on Sports, Fitness, and Nutrition (the Council) to work with the White House and the Secretary of Health and Human Services (HHS) to develop a national strategy to increase youth sports participation. Through this strategy, we are increasing awareness of the benefits of participation in sports and regular physical activity and of the importance of good nutrition. We are also working to recruit people devoted to encouraging and supporting youth participation in sports and regular physical activity through coaching, mentoring, teaching, and offering athletic and nutritional programs.

The strategy includes a focus on accessible, inclusive physical activity for Americans of all abilities. Girls, youth with disabilities, and those from economically distressed areas have lower rates of regular physical activity and face significant barriers in their pursuit of sports participation compared to their peers. Both the Council's Presidential Active Lifestyle Award and the HHS I Can Do It! (ICDI) program model will support the need for increased access to inclusive program models for American youth of all backgrounds and abilities. When children of all abilities play, practice, and compete together, we can build a more inclusive Nation.

This month, we celebrate and promote the countless benefits of both competitive and recreational sports, including better health, the opportunity to forge lifelong friendships, and the satisfaction of leaving it all on the field. Most importantly, we want our youth to learn the valuable lessons sports teach in order to create opportunities in the future for themselves, their families, and their communities.

NOW, THEREFORE, I, DONALD J. TRUMP, President of the United States of America, by virtue of the authority vested in me by the Constitution and the laws of the United States, do hereby proclaim May 2019 as National Physical Fitness and Sports Month. I call upon the people of the United States to make physical activity and sports participation a priority in their lives.

IN WITNESS WHEREOF, I have hereunto set my hand this thirtieth day of April, in the year of our Lord two thousand nineteen, and of the Independence of the United States of America the two hundred and forty-third.

[FR Doc. 2019-09316

Filed 5-3-19; 8:45 am]

Billing code 3295-F9-P